DEPARTMENT OF JUSTICE

[OMB Number 1110-0082]

Agency Information Collection Activities; Proposed eCollection eComments Requested; Extension of a Previously Approved Collection; Law Enforcement Suicide Data Collection

AGENCY: Federal Bureau of Investigation, Department of Justice.

ACTION: 60-Day notice.

SUMMARY: The Federal Bureau of Investigation (FBI), Department of Justice (DOJ), will be submitting the following information collection request to the Office of Management and Budget (OMB) for review and approval in accordance with the Paperwork Reduction Act of 1995.

DATES: Comments are encouraged and will be accepted for 60 days until December 16, 2024.

FOR FURTHER INFORMATION CONTACT:

If you have additional comments especially on the estimated public burden or associated response time, suggestions, or need a copy of the proposed information collection instrument with instructions or additional information, please contact Edward L. Abraham, Crime and Law Enforcement Statistics Unit Chief, FBI, CJIS Division, Module D-2, 1000 Custer Hollow Road, Clarksburg, West Virginia 26306; email: elabraham@fbi.gov or UCR@fbi.gov; telephone: 304-625-4830.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

— Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In response to the Law Enforcement Suicide Data Collection Act (title 34, United States Code, section 50701), the FBI's Uniform Crime Reporting Program established the LESDC which is designed to gather information on occurrences of suicide and attempted suicide within the law enforcement community. The data will be used to produce a report of information surrounding these incidents which will help promote the understanding of, and elicit further discussion within society about, law enforcement suicide and attempted suicide.

Overview of This Information Collection

1. Type of Information Collection: Extension of a previously approved collection.

2. The Title of the Form/Collection: Law Enforcement Suicide Data Collection.

3. The agency form number, if any, and the applicable component of the Department sponsoring the collection: Criminal Justice Information Services Division (CJISD).

4. Affected public who will be asked or required to respond, as well as the obligation to respond: Affected Public Law Enforcement Agencies. The obligation to respond is voluntary.

5. An estimate of the total number of respondents and the amount of time estimated for an average respondent to respond: The estimated number of responses is 50 per year.

The time per response is 15 minutes.

CIV estimates that 114 respondents will take three minutes to complete the form.

6. An estimate of the total annual burden (in hours) associated with the collection: CJIS estimates 312.5 hours (50 × 15min/60 = 12.5 hours). There is an additional 300 hours of outreach.

7. An estimate of the total annual cost burden associated with the collection, if applicable: $0.

Total Burden Hours
Activity | Number of respondents | Frequency (1 annually) | Total annual responses | Time per response (min) | Total annual burden (hours)
Ex: Survey (individuals or households) | 50 |  | 50 | 15 | 12.5
Unduplicated Totals | 50 |  | 50 |  | 12.5

If additional information is required contact: Darwin Arceo, Department Clearance Officer, United States Department of Justice, Justice Management Division, Policy and Planning Staff, Two Constitution Square, 145 N Street NE, 4W-218, Washington, DC.

Dated: October 9, 2024.
Darwin Arceo,
Department Clearance Officer for PRA, U.S. Department of Justice.

[FR Doc. 2024-23775 Filed 10-11-24; 8:45 am]

BILLING CODE 4410-02-P